DEPARTMENT OF COMMERCE

International Trade Administration

A-201-828

Antidumping Duty Order: Welded Large Diameter Line Pipe from Mexico

AGENCY: Import Administration, International Trade Administration, Department of Commerce.

ACTION: Notice of antidumping duty order.

EFFECTIVE DATE: February 27, 2002

FOR FURTHER INFORMATION CONTACT: Mesbah Motamed at 202-482-1382, Import Administration, International Trade Administration, U.S. Department of Commerce, 1401 Constitution Avenue, NW, Washington, DC 20230.

Applicable Statute and Regulations

Unless otherwise indicated, all citations to the Tariff Act of 1930, as amended (“Act”), are references to the provisions effective January 1, 1995, the effective date of the amendments made to the Act by the Uruguay Round Agreements Act. In addition, unless otherwise indicated, all citations to the Department's regulations are to the regulations at 19 CFR part 351 (2001).

Background

On January 4, 2002, the Department issued its final determination in the antidumping duty investigation of welded large diameter line pipe from Mexico. See Notice of Final Determination of Sales At Less Than Fair Value: Welded Large Diameter Line Pipe, 67 FR 566 (January 4, 2002) (“Final Determination”).

On February 19, 2002, the International Trade Commission (“ITC”) notified the Department of its final determination pursuant to section 735(b)(1)(A)(i) of the Act that an industry in the United States is materially injured by reason of less-than-fair-value imports of subject merchandise from Mexico.

Scope of the Investigation

The product covered by this investigation is certain welded carbon and alloy line pipe, of circular cross section and with an outside diameter greater than 16 inches, but less than 64 inches, in diameter, whether or not stenciled. This product is normally produced according to American Petroleum Institute (API) specifications, including Grades A25, A, B, and X grades ranging from X42 to X80, but can also be produced to other specifications.

Specifically not included within the scope of this investigation is American Water Works Association (AWWA) specification water and sewage pipe, and the following size/grade combinations of line pipe:

• Having an outside diameter greater than or equal to 18 inches and less than or equal to 22 inches, with a wall thickness measuring 0.750 inch or greater, regardless of grade.

• Having an outside diameter greater than or equal to 24 inches and less than 30 inches, with wall thickness measuring greater than 0.875 inches in grades A, B, and X42, with wall thickness measuring greater than 0.750 inches in grades X52 through X56, and with wall thickness measuring greater than 0.688 inches in grades X60 or greater.

• Having an outside diameter greater than or equal to 30 inches and less than 36 inches, with wall thickness measuring greater than 1.250 inches in grades A, B, and X42, with wall thickness measuring greater than 1.000 inches in grades X52 through X56, and with wall thickness measuring greater than 0.875 inches in grades X60 or greater.

• Having an outside diameter greater than or equal to 36 inches and less than 42 inches, with wall thickness measuring greater than 1.375 inches in grades A, B, and X42, with wall thickness measuring greater than 1.250 inches in grades X52 through X56, and with wall thickness measuring greater than 1.125 inches in grades X60 or greater.

• Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

• Having an outside diameter equal to 48 inches, with a wall thickness measuring 1.0 inch or greater, in grades X-80 or greater.

The product currently is classified under U.S. Harmonized Tariff Schedule (“HTSUS”) item numbers 7305.11.10.30, 7305.11.10.60, 7305.11.50.00, 7305.12.10.30, 7305.12.10.60, 7305.12.50.00, 7305.19.10.30, 7305.19.10.60, and 7305.19.50.00. Although the HTSUS item numbers are provided for convenience and customs purposes, the written description of the scope is dispositive.

Antidumping Duty Order

In accordance with section 736(a)(1) of the Act, the Department is directing Customs officers to assess, upon further advice by the Department, antidumping duties equal to the amount by which the normal value of the merchandise exceeds the export price (or constructed export price) of the merchandise for all relevant entries of welded large diameter line pipe from Mexico. The antidumping duties will be assessed on all unliquidated entries of welded large diameter line pipe from Mexico entered, or withdrawn from warehouse, for consumption on or after August 15, 2001, the date on which the Department published its notice of preliminary determination in the Federal Register. See Notice of Final Determination of Sales at Less Than Fair Value: Welded Large Diameter Line Pipe From Mexico, 67 FR 566, (January 4, 2002). On or after the date of publication of this notice in the Federal Register, customs officers must require, at the same time as importers would normally deposit estimated duties on this merchandise, a cash deposit equal to the estimated weighted-average antidumping duty margins as noted below. The “All Others” rate applies to all exporters of subject merchandise from Mexico. The weighted-average dumping margins are as follows:

Exporter/Manufacturer | Weighted-Average Margin
Productora Mexican de Tuberia, S.A. de C.V. | 49.86
Tubacero, S.A. de C.V. | 49.86
All Others | 49.86

This notice constitutes the antidumping duty order with respect to welded large diameter line pipe from Mexico. Interested parties may contact the Department's Central Records Unit, room B-099 of the main Department of Commerce building, for copies of an updated list of antidumping duty orders currently in effect.

This order is published in accordance with section 736(a) of the Act.

February 22, 2002
Faryar Shirzad,
Assistant Secretary for Import Administration.

[FR Doc. 02-4841 Filed 2-26-02; 8:45 am]

BILLING CODE 3510-DS-S